DEPARTMENT OF HEALTH AND HUMAN SERVICES

Centers for Disease Control and Prevention

Reorganization of the Office of Strategic Business Initiatives

AGENCY: Centers for Disease Control and Prevention (CDC), the Department of Health and Human Services (HHS).

ACTION: Notice.

SUMMARY: CDC has modified its structure. This notice announces the reorganization of the Office of Strategic Business Initiatives (SBI) to transfer its management of the CDC Gift Review Panel to the Office of Policy, Performance, and Evaluation.

DATES: This reorganization was approved by the Director of CDC on January 17, 2024.

FOR FURTHER INFORMATION CONTACT: Kimberly Thurmond, Office of the Chief Operating Officer, Office of the Director, Centers for Disease Control and Prevention, 1600 Clifton Road NE, MS TW-2, Atlanta, GA 30329. Telephone 770-488-4401; Email: reorgs@cdc.gov.

SUPPLEMENTARY INFORMATION: Part C (Centers for Disease Control and Prevention) of the Statement of Organization, Functions, and Delegations of Authority of the Department of Health and Human Services (45 FR 67772-76, dated October 14, 1980, and corrected at 45 FR 69296, October 20, 1980, as amended most recently at 88 FR 69188-69190, dated October 5, 2023) is amended to reflect the reorganization of the Office of Strategic Business Initiatives within the Office of the Chief Operating Officer, Centers for Disease Control and Prevention. Specifically, the changes are as follows:

I. Under Part C, Section C-B, Organization and Functions

• Change all instances of the acronym SBI to OSBI.

• Delete item (2) of the OSBI (CAJT) functional statement and insert the following: (2) strengthens CDC's administrative guidance and change management through agency-wide conference, policy, delegations of authority, organization and functions, and records management.

• Delete item (5) of the Office of Business Integrity and Strategic Management (CAJTB) functional statement and renumber the remaining items accordingly.

Delegations of Authority

All delegations and redelegations of authority made to officials and employees of affected organizational components will continue in them or their successors pending further redelegation, provided they are consistent with this reorganization.

(Authority: 44 U.S.C. 3101)

Dia Taylor,
Acting Chief Operating Officer, Centers for Disease Control and Prevention.

[FR Doc. 2024-01708 Filed 1-26-24; 8:45 am]

BILLING CODE 4163-18-P